DEPARTMENT OF EDUCATION

34 CFR Chapter III

[Docket ID ED-2015-OSERS-0034]

Proposed Priority—Rehabilitation Training: Vocational Rehabilitation Technical Assistance Center—Youth With Disabilities

AGENCY: Office of Special Education and Rehabilitative Services, Department of Education.

ACTION: Proposed priority.

[CFDA Number: 84.264H.]

SUMMARY: The Assistant Secretary for Special Education and Rehabilitative Services proposes a priority under the Rehabilitation Training program. The Assistant Secretary may use this priority for competitions in fiscal year (FY) 2015 and later years. This priority is designed to ensure that professionals working in State vocational rehabilitation (VR) agencies receive the technical assistance they need to provide youth with disabilities with services and supports that lead to postsecondary education and competitive integrated employment.

DATES: We must receive your comments on or before June 15, 2015.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Tara Jordan, U.S. Department of Education, 400 Maryland Avenue SW., Room 5040, Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Tara Jordan. Telephone: (202) 245-7341 or by email: tara.jordan@ed.gov.

If you use a telecommunications device for the deaf (TDD) or a text telephone (TTY), call the Federal Relay Service (FRS), toll free, at 1-800-877-8339.

SUPPLEMENTARY INFORMATION: Invitation to Comment: We invite you to submit comments regarding this notice. To ensure that your comments have maximum effect in developing the notice of final priority, we urge you to identify clearly the specific section of the proposed priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about these proposed regulations by accessing Regulations.gov. You may also inspect the comments in person in room 5040, 550 12th Street SW., PCP, Washington, DC, 20202-2800, between the hours of 8:30 a.m. and 4:00 p.m., Washington, DC time, Monday through Friday of each week except Federal holidays. Please contact the person listed under FOR FURTHER INFORMATION CONTACT.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973 (Rehabilitation Act), as amended by the Workforce Innovation and Opportunity Act (WIOA), the Rehabilitation Services Administration makes grants to States and public or nonprofit agencies and organizations (including institutions of higher education) to support projects that provide training, traineeships, and technical assistance designed to increase the numbers of, and improve the skills of, qualified personnel (especially rehabilitation counselors) who are trained to: provide vocational, medical, social, and psychological rehabilitation services to individuals with disabilities; assist individuals with communication and related disorders; and provide other services authorized under the Rehabilitation Act.

Program Authority: 29 U.S.C. 772(a)(1).

Applicable Program Regulations: 34 CFR part 385.

Proposed Priority:

This notice contains one proposed priority.

Vocational Rehabilitation Technical Assistance Center—Youth with Disabilities (VRTAC-Y).

Background:

State vocational rehabilitation (VR) agencies provide employment-related services to students and youth with disabilities in order to facilitate a smooth transition from school to post-school activities and to assist them in obtaining the training and skills they need to achieve competitive integrated employment. The Workforce Innovation and Opportunity Act (WIOA) amended the Rehabilitation Act by expanding the kinds of services that State VR agencies may provide to students and youth with disabilities and adding definitions of the terms “student with a disability” and “youth with a disability”.

The new definition for “student with a disability” at section 7(37)(A) of the Rehabilitation Act, as amended by WIOA, renumbered here for ease of reading, is an individual with a disability who—

(a)(1)(i) is not younger than the earliest age for the provision of transition services under section 614(d)(1)(A)(i)(VIII) of the Individuals with Disabilities Education Act (20 U.S.C. 1414(d)(1)(A)(i)(VIII); or

(ii) if the State involved elects to use a lower minimum age for receipt of pre-employment transition services under this Act, is not younger than that minimum age; and

(2)(i) is not older than 21 years of age; or

(ii) if the State law for the State provides for a higher maximum age for receipt of services under the Individuals with Disabilities Education Act (20 U.S.C. 1400 et seq.), is not older than that maximum age; and

(b)(1) is eligible for, and receiving, special education or related services under Part B of the Individuals with Disabilities Education Act (20 U.S.C. 1411 et seq.); or

(2) is an individual with a disability, for purposes of section 504.

The new definition for “youth with a disability” at section 7(42)(A) of the Rehabilitation Act, as amended by WIOA, also renumbered here for ease of reading, is an individual with a disability who (a) is not younger than 14 years of age; (b) is not older than 24 years of age.

Historically, State VR agencies have had difficulty in locating and serving students with disabilities who are not served under the IDEA and youth with disabilities who are no longer in school. Therefore, the proposed Vocational Rehabilitation Technical Assistance Center for Youth with Disabilities (VRTAC-Y) would focus on providing technical assistance to State VR agencies on locating and serving students with disabilities not served under the IDEA and youth with disabilities who are not enrolled in school and who are not employed. Additionally, the National Technical Assistance Center on Transition, jointly funded by the Office of Special Education Programs (OSEP) and the Rehabilitation Services Administration (RSA), already provides technical assistance on the provision of transition services to students who are served under the IDEA.

The difficulty in locating and serving students with disabilities who are not served under the IDEA arises because these students usually do not have a lead teacher or advocate in the school system with the responsibility to facilitate the connection of students with disabilities to VR or to other services in the community. Without these connections, students may not obtain the necessary services and supports they need to be successful in education and training programs or competitive integrated employment after exiting high school.

Similarly, youth with disabilities who are not enrolled in school are usually not connected to the local adult service systems and, as a consequence, are not referred to the State VR agency for transition services or to other programs and services they may need. In particular, youth with disabilities who are high school dropouts, exiting the foster care system, or juvenile offenders are at high risk for not transitioning into successful and economically self-sufficient adult lives, and the consequences of this failure are considerable. Students with disabilities, particularly students with emotional or behavioral disabilities and learning disabilities, are at greater risk for dropping out of school (Lehr, et al. 2004). Youth with disabilities who drop out of high school experience substantial economic and social problems, including unemployment, poverty, homelessness, and incarceration. In addition, youth with disabilities who age out of the foster care system or are exiting correctional facilities often have multiple needs and may face additional challenges in connecting to appropriate community services and supports.

There are a number of promising and innovative practices aimed at assisting students and youth with disabilities to succeed in transitioning to adulthood, particularly education and competitive integrated employment, which are useful to State VR agencies. “Guideposts for Success” is a comprehensive resource of such practices focusing on the needs of youth with disabilities and vulnerable populations, such as youth in foster care and youth involved or at risk of becoming involved in the juvenile justice system (see http://www.ncwd-youth.info/topic/guideposts). Early transition planning, information about career options and exposure to the world of work, including structured internships, the involvement of family members, and/or other caring adults can assist students and youth with disabilities to meet the challenges they face and may lead to better post-school outcomes. Students with disabilities who are engaged in courses that they choose and that they believe will prepare them for life, including career technical and cooperative education classes, are less likely to drop out (Dunn, Chambers and Rabren, 2004).

In addition, collaboration among State educational agencies (SEAs), local educational agencies (LEAs), State VR agencies, and other service providers helps to ensure the delivery of coordinated transition services. (Landmark, et al., 2010; National Council on Disability, 2008). Systems coordination promotes easier access to services for students and youth with disabilities and strengthens results and accountability leading to more positive outcomes (Russ and Fryar 2014).

The proposed VRTAC-Y would provide training and technical assistance to State VR agencies to assist them in identifying and serving students and youth with disabilities; designing and implementing collaborative and integrative approaches to serving students and youth with disabilities; and strengthening and expanding coordination of services to students and youth with disabilities, particularly those not served under the IDEA.

References:

Dunn, C., Chambers, D. and Rabren, K. (2004). Variables Affecting Students' Decision to Drop Out of School. Remedial and Special Education, 25, 314.

Landmark, L.J., Ju, S., and Zhang, D. (2010). Substantiated Best Practices in Transition: Fifteen Plus Years Later. Career Development for Exceptional Individuals, 33(3).

Lehr, C.A., Johnson, D.R., Bremer, C.D., Cosio, A., & Thompson, M. (2004). Essential tools: Increasing rates of school completion: Moving from policy and research to practice. Minneapolis, MN: University of Minnesota, Institute on Community Integration, National Center on Secondary Education and Transition.

National Council on Disability (2008). The Rehabilitation Act: Outcomes for Transition-Age Youth. Retrieved from: http://www.ncd.gov/policy/employment.

Russ, E. and Fryar, G. (December 2014). Creating Access to Opportunities for Youth in Transition from Foster Care: An AYPF Policy Brief. American Youth Policy Forum.

Proposed Priority:

The purpose of this proposed priority is to fund a cooperative agreement to establish a Vocational Rehabilitation Technical Assistance Center—Youth with Disabilities (VRTAC-Y). The focus of this proposed priority is to provide technical assistance (TA) to State vocational rehabilitation (VR) agencies to improve services to and outcomes of: (1) students with disabilities, as defined in section 7(37) of the Rehabilitation Act, who are in school and who are not receiving services under the IDEA; and (2) youth with disabilities, as defined in section 7(42) of the Rehabilitation Act, who are no longer in school and who are not employed. For purposes of this priority, “Students and youth with disabilities” refers to these two groups.

The VRTAC-Y is designed to achieve, at a minimum, the following outcomes:

(a) Assist State VR agencies to identify and meet the VR needs of students and youth with disabilities consistent with section 101(a)(15) of the Rehabilitation Act;

(b) Improve the ability of State VR agencies to develop partnerships with State and local agencies, service providers, or other entities to ensure that students and youth with disabilities are referred for VR services and have access to coordinated supports, services, training, and employment opportunities, including: (1) increasing the number of referrals and applications received by State VR agencies from agencies, service providers and others serving students and youth with disabilities; and (2) increasing the number of students and youth with disabilities receiving VR services;

(c) Improve the ability of VR personnel to develop individualized plans for employment that ensure the successful transition of students and youth with disabilities and the achievement of post-school goals; and

(d) Increase the number of students and youth with disabilities served by VR agencies (particularly dropouts, foster care youth and youth involved in the correctional system) who are engaged in education and training programs leading to the attainment of postsecondary skills and credentials needed for employment in high-demand occupations.

Topic Areas

Under this proposed priority, the VRTAC-Y must develop and provide training and TA to State VR agency staff and related rehabilitation professionals and service providers in the following topic areas:

(a) Developing and maintaining formal and informal partnerships and relationships with relevant stakeholders (including, but not limited to, school systems, institutions of higher education (IHEs), State and local service agencies, community rehabilitation programs, correctional facilities and programs, and employers) to increase referral of students and youth with disabilities to the State VR system for the supports and services they need to achieve competitive integrated employment;

(b) Developing and implementing outreach policies and procedures using evidence-based and promising practices that ensure that students and youth with disabilities in the State are located, identified, and evaluated for services; and

(c) Developing and implementing collaborative and coordinated service strategies, such as higher education and training services; and internship, apprenticeship, and other work experience services designed to increase the number of students and youth with disabilities who are served by the State VR agency who obtain competitive integrated employment.

Project Activities

Under this proposed priority, the VRTAC-Y must, at a minimum, conduct the following activities:

Knowledge Development Activities

(a) In the first year, collect information from the literature and from existing Federal, State, and other programs on evidence-based and promising practices relevant to the work of the VRTAC-Y and make this information publicly available in a searchable, accessible, and useful format. The VRTAC-Y must review, at a minimum:

(1) State VR agency State plan descriptions of outreach plans and procedures, coordination and collaboration with other agencies, and coordination and collaboration with education officials relating to students and youth with disabilities;

(2) State VR agency formal interagency agreements with SEAs for the coordination of transition services, including the provision of pre-employment transition services;

(3) The results of State VR agency monitoring conducted by RSA, when available;

(4) State VR agency program and performance data; and

(5) Information on promising practices and VR needs of students and youth with disabilities from TA centers that serve relevant public and private non-profit agencies, as well as existing RSA and OSEP TA centers and RSA and OSEP Parent Training and Information Centers.

(b) In the first year, conduct a survey of relevant stakeholders and VR service providers to identify TA needs that the VRTAC-Y can meet and develop a process by which TA solutions can be offered to State VR agencies and their partners. The VRTAC-Y must survey, at a minimum:

(1) State VR agency staff;

(2) Relevant RSA staff;

(3) Grantees of the National Institute on Disability, Independent Living, and Rehabilitation Research that are researching topics related to the work of the VRTAC-Y; and

(4) Educators or other professionals conducting research on topics related to the work of the VRTAC-Y.

Technical Assistance and Dissemination Activities

(a) Over the five-year grant period, provide intensive TA to a minimum of 10 State VR agencies and their associated rehabilitation professionals and service providers in the topic areas set out in this proposed priority.¹ In each of the second, third, fourth, and fifth years of the project, the VRTAC-Y must provide intensive TA to at least two different State VR agencies. Applicants must clearly describe the application process and selection criteria for the State VR agencies that would receive intensive TA. Such TA must include:

¹ For the purposes of this proposed priority, “intensive TA” means TA services often provided on-site and requiring a stable, ongoing relationship between the TA Center staff and the TA recipient. “TA services” are defined as a negotiated series of activities designed to reach a valued outcome. Intensive TA should result in changes to policy, programs, practices, or operations that support increased recipient capacity or improved outcomes at one or more systems levels.

(1) For topic area (a)—

(i) Identification of key stakeholders in the State or region who can improve the State VR agency's ability to perform outreach activities and meet the employment and training needs of students and youth with disabilities;

(ii) Effective marketing and outreach to school and community services personnel, such as how best to present information about VR supports, training, and programming for students and youth with disabilities; and

(iii) How to develop formal and informal service and outreach agreements with relevant stakeholders to meet the employment and training needs of students and youth with disabilities.

(2) For topic area (b)—

(i) How to conduct an analysis and assessment of outreach strategies to determine gaps between service delivery systems, as well as the need for coordinated services and supports across service systems for students and youth with disabilities;

(ii) How to access and leverage partnerships across agencies and service delivery systems to increase the number of students and youth with disabilities provided with relevant and accessible information regarding services available through the State VR agency.

(3) For topic area (c)—

(i) Evidence-based and promising practices in the development and implementation of vocational services to meet the employment and training needs of students and youth with disabilities;

(ii) How to incorporate students and youth with disabilities into training programs in which they have been historically underrepresented; and

(iii) How to assist students and youth with disabilities in accessing customized vocational, occupational, or certification training or other career training that is directly responsive to employer needs and hiring requirements, including, but not limited to, training offered by providers under the Carl D. Perkins Career and Technical Education Improvement Act, H-1B Ready to Work Partnership Grants, and Trade Adjustment Assistance Community College and Career Training Grants, including two-year and four-year IHEs.

(b) In the first year, develop and refine a minimum of five curriculum guides for VR staff training in topics related to the work of the VRTAC-Y, which must include:

(1) Partnership development across service delivery systems for purposes of leveraging resources and coordinating supports, services, training, and employment opportunities for students and youth with disabilities;

(2) Development, implementation, and dissemination of effective model outreach strategies, policies, and procedures to improve access for students and youth with disabilities to VR services and supports;

(3) Development of customized training, other career training, and work experience programs for students and youth with disabilities;

(4) Development and delivery of support services to providers of career training programs that facilitate completion of training and result in competitive integrated employment for students and youth with disabilities; and

(5) Delivery of support services to employers who hire students and youth with disabilities from customized or career training programs or who offer internships and work experience opportunities.

(c) Provide a range of targeted and general TA products and services on the topic areas in this proposed priority. Such TA must include, at a minimum, the following activities:

(1) Developing and maintaining a state-of-the-art information technology (IT) platform sufficient to support Webinars, teleconferences, video conferences, and other virtual methods of dissemination of information and TA;

Note: All products produced by the VRTAC-Y must meet government and industry-recognized standards for accessibility, including section 508 of the Rehabilitation Act. The VRTAC-Y may either develop a new platform or system, or modify existing platforms or systems, so long as the requirements of the priority are met.

(2) Ensuring that all TA products are sent to the National Center for Rehabilitation Training Materials, including: course curricula; audiovisual materials; Webinars; examples of emerging and best practices related to the topic areas in this proposed priority; and any other TA products; and

(3) Providing a minimum of four Webinars or video conferences on each of the topic areas in this proposed priority to describe and disseminate information about emerging and promising practices in each area.

Coordination Activities

(a) Establish a community of practice for all interested State VR agencies that will act as a vehicle for communication, exchange of information among State VR agencies and partners, and a forum for sharing the results of TA projects that are in progress or have been completed. Such community of practice must be focused on partnerships across service systems, outreach and identification strategies for students and youth with disabilities, and the development and provision of vocational services and vocational training to students and youth with disabilities.

(b) Communicate and coordinate, on an ongoing basis, with other Department-funded projects and those supported by the Departments of Labor and Commerce; and

(c) Maintain ongoing communications with the RSA project officer.

Application Requirements

To be funded under this proposed priority, applicants must meet the proposed application requirements in this proposed priority. RSA encourages innovative approaches to meet these requirements. The proposed application requirements are:

(a) Demonstrate, in the narrative section of the application, under “Significance of the Project,” how the proposed project will—

(1) Address State VR agencies' capacity to meet the employment and training needs of students and youth with disabilities. To meet this requirement, the applicant must:

(i) Demonstrate knowledge of emerging and best practices in conducting outreach and providing VR services to students and youth with disabilities;

(ii) Demonstrate knowledge of current applicable Federal statutes and regulations, current RSA guidance, and State and Federal initiatives designed to improve employment outcomes for students and youth with disabilities; and

(iii) Present information about the difficulties that State VR agencies and service providers have encountered in developing and implementing effective outreach and service delivery plans for students and youth with disabilities; and

(2) Result in increases in both the number of students and youth with disabilities receiving services from State VR agencies and related agencies and the number and quality of employment outcomes in competitive integrated employment for students and youth with disabilities;

(b) Demonstrate, in the narrative section of the application, under “Quality of Project Services,” how the proposed project will—

(1) Achieve its goals, objectives, and intended outcomes. To meet this requirement, the applicant must provide—

(i) Measurable intended project outcomes;

(ii) A plan for how the proposed project will achieve its intended outcomes; and

(iii) A plan for communicating and coordinating with key staff in State VR agencies, State and local partner programs, advocates for students and youth with disabilities, RSA partners such as the Council of State Administrators of Vocational Rehabilitation (CSAVR), the National Council of State Agencies for the Blind (NCSAB), and other TA Centers and relevant programs within the Departments of Education, Labor, and Commerce;

(2) Use a conceptual framework to develop project plans and activities, describing any underlying concepts, assumptions, expectations, beliefs, or theories, as well as the presumed relationships or linkages among these variables, and any empirical support for this framework;

(3) Be based on current research and make use of evidence-based and promising practices. To meet this requirement, the applicant must describe—

(i) The current research on emerging, promising, and evidence-based practices in the topic areas in this proposed priority;

(ii) How the current research about adult learning principles and implementation science will inform the proposed TA; and

(iii) How the proposed project will incorporate current research and evidence-based practices in the development and delivery of its products and services;

(4) Develop products and provide services that are of high quality and sufficient intensity and duration to achieve the intended outcomes of the proposed project. To address this requirement, the applicant must describe—

(i) Its proposed activities to identify or develop the knowledge base on emerging and promising practices in the topic areas in this proposed priority;

(ii) Its proposed approach to universal, general TA; ²

² For the purposes of this priority, “universal, general technical assistance” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,³ which must identify—

³ For the purposes of this priority, “targeted, specialized technical assistance” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of State VR agencies to work with the proposed project, assessing, at a minimum, their current infrastructure, available resources, and ability to effectively respond to the TA, as appropriate;

(iv) Its proposed approach to intensive, sustained TA, which must identify—

(A) The intended recipients of the products and services under this approach;

(B) Its proposed approach to measure the readiness of the State VR agencies to work with the proposed project including the State VR agencies' commitment to the TA initiatives, appropriateness of the initiatives, current infrastructure, available resources, and ability to respond effectively to the TA, as applicable;

(C) Its proposed plan for assisting State VR agencies to build training systems that include professional development based on adult learning principles and coaching; and

(D) Its proposed plan for developing intensive TA agreements with State VR agencies to provide intensive, sustained TA. The plan must describe how the intensive TA agreements will outline the purposes of the TA, the intended outcomes of the TA, and the measurable objectives of the TA that will be evaluated;

(5) Develop products and implement services to maximize the project's efficiency. To address this requirement, the applicant must describe—

(i) How the proposed project will use technology to achieve the intended project outcomes; and

(ii) With whom the proposed project will collaborate and the intended outcomes of this collaboration;

(c) Demonstrate, in the narrative section of the application under “Quality of the Evaluation Plan,” how the proposed project will—

(1) Measure and track the effectiveness of the TA provided. To meet this requirement, the applicant must describe its proposed approach to—

(i) Collecting data on the effectiveness of each TA activity from State VR agencies, partners, or other sources, as appropriate; and

(ii) Analyzing data and determining the effectiveness of each TA activity, including any proposed standards or targets for determining effectiveness. At a minimum, the VRTAC-Y must analyze data on school and service system referrals to State VR agencies and employment outcomes of students and youth with disabilities, including type of employment, wages, hours worked, weeks of employment, and public benefits received;

(2) Collect and analyze data on specific and measurable goals, objectives, and intended outcomes of the project, including measuring and tracking the effectiveness of the TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual TA activities achieved their intended outcomes;

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to provide TA to State VR agencies and their partners in each of the topic areas in this proposed priority and to achieve the project's intended outcomes;

(3) The applicant and any key partners have adequate resources to carry out the proposed activities; and

(4) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors that will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including those of State and local personnel, TA providers, researchers, and policy makers, among others, in its development and operation.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits would justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Rehabilitation Training program have been well established over the years through the successful completion of similar projects. This proposed priority will better prepare State VR agency personnel to assist the students and youth with disabilities who are the focus of this priority to achieve competitive integrated employment in today's challenging labor market.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 12, 2015.
Sue Swenson,
Acting Assistant Secretary for Special Education and Rehabilitative Services.

[FR Doc. 2015-11826 Filed 5-14-15; 8:45 am]

BILLING CODE 4000-01-P